DEPARTMENT OF COMMERCE

International Trade Administration

[A-570-901]

Notice of Correction to Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia

AGENCY: Import Administration, International Trade Administration, Department of Commerce.

EFFECTIVE DATE: October 26, 2006.

FOR FURTHER INFORMATION CONTACT: Charles Riggle, AD/CVD Operations, Office 8, Import Administration, International Trade Administration, U.S. Department of Commerce, 14th Street and Constitution Avenue, NW, Washington, DC 20230; telephone; (202) 482-0605.

SUPPLEMENTARY INFORMATION:

Correction:

On September 28, 2006, the Department of Commerce (“the Department”) published the Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (“CLPP Amended Final and Orders”). Subsequent to the publication of the CLPP Amended Final and Orders, we identified an inadvertent ministerial error in the Federal Register notice.

In the antidumping duty orders section, the producer for the People's Republic of China exporter You-You Paper Products (Suzhou) Co., Ltd. is incorrectly identified as You-You Paper Products (Suzhou) Co., Ltd. The CLPP Amended Final and Orders is hereby corrected to list the producer as Rugao Paper Printer Co., Ltd.

This notice is to serve solely as a correction to the producer name. The Department's findings in the CLPP Amended Final and Orders are correct and remain unchanged. This correction is issued and published in accordance with section 777(i) of the Tariff Act of 1930, as amended.

Dated: October 20, 2006.
David M. Spooner,
Assistant Secretary for Import Administration.

[FR Doc. E6-17956 Filed 10-25-06; 8:45 am]

BILLING CODE 3510-DS-S